FEDERAL TRADE COMMISSION

Agency Information Collection Activities; Submission to the Office of Management and Budget for Review and Approval; Comment Request

AGENCY: Federal Trade Commission (“Commission” or “FTC”).

ACTION: Notice of information collection; request for comment.

SUMMARY: The FTC requests that the Office of Management and Budget (“OMB”) extend for an additional three years the current Paperwork Reduction Act (“PRA”) clearance for information collection requirements in its regulation “Duties of Furnishers of Information to Consumer Reporting Agencies” (“Information Furnishers Rule”), which applies to certain motor vehicle dealers, and its shared enforcement with the Consumer Financial Protection Bureau (“CFPB”) of the furnisher provisions (subpart E) of the CFPB's Regulation V regarding other entities. The existing clearance expires on June 30, 2016.

DATES: Comments must be submitted on or before June 28, 2019.

ADDRESSES: Comments in response to this notice should be submitted to the OMB Desk Officer for the Federal Trade Commission within 30 days of this notice. You may submit comments using any of the following methods:

Electronic: Write “Information Furnishers Rule, PRA Comment, P135407,” on your comment and file your comment online at https://www.regulations.gov, by following the instructions on the web-based form.

Email: MBX.OMB.OIRA.Submission@OMB.eop.gov.

Mail: Office of Information and Regulatory Affairs, Office of Management and Budget, Attention: Desk Officer for the Federal Trade Commission, New Executive Office Building, Docket Library, Room 10102, 725 17th Street NW, Washington, DC 20503.

FOR FURTHER INFORMATION CONTACT: Jamie Elliott Hine, Attorney, Division of Privacy and Identity Protection, Bureau of Consumer Protection, (202) 326-2188, 600 Pennsylvania Ave. NW, CC-8232, Washington, DC 20580.

SUPPLEMENTARY INFORMATION: Pursuant to the Paperwork Reduction Act of 1995 (44 U.S.C. 3501 et seq.), the FTC has submitted to the Office of Management and Budget (“OMB”) this request for extension of the previously approved collection of information discussed below.

Title: Duties of Furnishers of Information to Consumer Reporting Agencies.

OMB Control Number: 3084-0144.

Type of Review: Extension of currently approved collection.

Estimated Annual Burden:

Section 660.3 of FTC Rule/Section 1022.42 of CFPB Rule: 14,420 hours and $815,884 in associated labor costs

Section 660.4 of FTC Rule/Section 1022.43 of CFPB Rule: 2,635 hours and $62,423 in associated labor costs

The total estimated burden is 17,055 hours and $878,307 in associated labor costs. Commission staff believes that the Information Furnishers Rule and subpart E of Regulation V impose negligible capital or other non-labor costs, as the affected entities are already likely to have the necessary supplies and/or equipment (e.g., offices and computers) for the associated information collection provisions.

These burden figures reflect solely the FTC's estimates assigned to itself, including a portion reflective of its sole enforcement authority for certain motor vehicle dealers subject to the FTC rule.¹ For more details about the Rule requirements, the background behind these information collection provisions, and the basis for these calculations, see 84 FR 10074 (March 19, 2019).

¹ The FTC retains rulemaking authority for its Information Furnishers Rule solely for motor vehicle dealers described in section 1029(a) of the Dodd-Frank Wall Street Reform and Consumer Protection Act (Pub. L. 111-203, 124 Stat. 1376 (2010)) that are predominantly engaged in the sale and servicing of motor vehicles, the leasing and servicing of motor vehicles, or both.

Request for Comment

On March 19, 2019, the Commission sought comment on the information collection requirements associated with the Information Furnishers Rule and the Commission's shared enforcement with the CFPB of the furnisher provisions in subpart E of the CFPB's Regulation V. 84 FR 10074. No relevant comments were received. Pursuant to the OMB regulations, 5 CFR part 1320, that implement the PRA, 44 U.S.C. 3501 et seq., the FTC is providing this second opportunity for public comment while seeking OMB approval to renew the pre-existing clearance for those information collection requirements.

Your comment—including your name and your state—will be placed on the public record of this proceeding. Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act 15 U.S.C. 46(f), and FTC Rule 4.10(a)(2), 16CFR 4.10(a)(2). In particular, do not include competitively sensitive information such as costs, sales statistics, inventories, formulas, patterns devices, manufacturing processes, or customer names.

Heather Hippsley,
Deputy General Counsel.

[FR Doc. 2019-11194 Filed 5-28-19; 8:45 am]

BILLING CODE 6750-01-P